DEPARTMENT OF THE INTERIOR

Bureau of Land Management

[[LLCAD00000.L91310000.EI0000]

Notice of Intent to Prepare an Environmental Document and Proposed Plan Amendment for the West Mojave (WEMO) Plan, Motorized Vehicle Access Element, Inyo, Kern and Los Angeles and San Bernardino Counties, CA

AGENCY: Bureau of Land Management, Interior.

ACTION: Notice of intent.

SUMMARY: In compliance with the National Environmental Policy Act of 1969, as amended (NEPA), and the Federal Land Policy and Management Act of 1976, as amended (FLPMA), the Bureau of Land Management (BLM) California Desert District (CDD) intends to prepare an environmental document to amend the West Mojave (WEMO) area plan. By this Notice, the BLM is announcing the beginning of the scoping process to solicit public comments.

DATES: This notice initiates the public scoping process for the environmental document and proposed plan amendment. Comments on issues may be submitted in writing until October 13, 2011. The date(s) and location(s) of any scoping meetings will be announced at least 15 days in advance through the local news media, newspapers, and the BLM Web site at: http://www.blm.gov/ca/st/en/fo/cdd.html. In order to be fully considered in the environmental document, all scoping comments must be received prior to the close of the scoping period or 15 days after the last public meeting, whichever is later. The BLM will provide additional opportunities for public participation upon publication of the environmental document.

ADDRESSES: The public may submit comments on planning criteria and related issues, by any of the following methods:

• E-mail: cawemopa@blm.gov.

• Web site: http://www.blm.gov/ca/st/en/fo/cdd/west_mojave_wemo.

• Fax: (951) 697-5299.

• Mail: BLM California Desert District Office, 22835 Calle San Juan de Los Lagos, ATTN: Alan Stein, Moreno Valley, CA 92553-9046.

Documents relevant to this proposal may be examined at the California Desert District Office or Web site (address above), or the BLM's California State Office, 2800 Cottage Way, Sacramento, CA 95825.

FOR FURTHER INFORMATION CONTACT: Alan Stein, telephone (951) 697-5382; address Bureau of Land Management, California Desert District Office, 22835 Calle San Juan de Los Lagos, ATTN: Alan Stein, Moreno Valley, CA 92553-9046; e-mail cawemopa@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The California Desert Conservation Area (CDCA) Plan of 1980 addressed public-land resources and resources use within 25-million acres of land in southern California. The 1980 CDCA Plan included 12 plan elements, including a Motorized Vehicle Element. The Motorized Vehicle Access Element of the CDCA Plan addressed both access and vehicular use of public lands in southern California, and identified management guidelines and objectives. The CDCA Plan of 1980 has been amended numerous times since it was adopted in 1982. The CDCA Plan contains language that has been judicially determined to restrict motorized routes to those that existed in 1980.

In 2006, the BLM approved a comprehensive amendment to the West Mojave area of the CDCA Plan. In a 2006 Western Mojave Record of Decision (WEMO ROD) the BLM amended the CDCA Plan and modified its motorized vehicle management decisions, including off-highway vehicle (OHV) route designation, on more than 3 million acres of public land within the CDCA. The 2006 WEMO ROD approved the designation of 5,098 miles of motorized vehicle routes without specifically changing the language of the 1980 CDCA plan.

A lawsuit was filed challenging the WEMO ROD's route designation process. In January 2011, a court order remanded the 2006 WEMO ROD to the BLM and, in part, directed the BLM to amend the CDCA Plan and reconsider route designation throughout the WEMO area. By court order, the BLM must issue a revised decision by March 31, 2014.

A plan amendment is necessary to update language in the Motorized Vehicle Access Element of the CDCA Plan. The plan amendment, and associated environmental documents, will address two components, among others: (1) Alternatives for amending the Motorized Vehicle Access Element of the CDCA Plan for the WEMO area; and (2) Alternative processes for designating travel routes within the sub-regional areas of the WEMO plan area.

The main purpose of the scoping process is to solicit public comments on the following:

1. Identification of those portions of the WEMO plan that should be revised to reflect current management policy regarding motorized vehicle access;

2. Identification of the process and decision criteria that should be used to designate routes in the sub-regional areas of the WEMO plan area;

3. Identification of motorized vehicle use issues and concerns within each sub-regional area of the WEMO plan area;

4. Identification of the best science and technology available to identify and establish viable route networks in the sub-regional areas of the WEMO plan area; and

5. Whether the BLM should analyze an amendment to the WEMO plan as it relates, primarily, to motorized vehicle use separately or in conjunction with sub-regional route designation, and alternatives to route designation.

The proposed planning effort would allow the BLM to revise portions of the Motorized Vehicle Element of the CDCA Plan to more clearly describe how motorized vehicle use will be managed in the CDCA according to current BLM policy. A primary objective of the proposed action for this plan amendment is to replace the following CDCA Plan language: “at the minimum, use will be restricted to existing routes of travel,” with language that reflects current BLM policy, such as restricting motorized vehicle use to designated routes. Other language from the CDCA Plan may be modified to reduce confusion and clearly state to the public where motorized vehicle use is appropriate and where it is inappropriate.

Further, subsequently, concurrently, or in a combination of both, additional environmental analysis would address current route designation within the WEMO sub-regional areas. This analysis would result in new decisions for each sub-regional area within the WEMO plan area that would either retain or modify, in whole or in part, current route designations. New route designation decisions would be issued in accordance with the route designation criteria in 43 CFR 8342.1, and in consideration of other applicable laws, regulations, and policies.

The public scoping process for this action will also determine relevant issues, impacts, and possible alternatives that could influence the scope of the environmental analysis, and guide the entire process from plan decision-making to route designation review in order to comply with the court order.

The BLM has identified the following preliminary issues of concern: Special status species, vegetation communities (including unique plant assemblages), special area designations, air quality in previously designated open areas, cultural resources, soils, springs and seeps, fringe-toed lizard habitat, and cumulative effects.

By this Notice, the BLM is complying with requirements in 43 CFR 1610.2(c) to notify the public of potential amendments to land use plans. The BLM will integrate the land use planning process with the NEPA process. The scoping process will help determine whether the BLM prepares an environmental assessment or an environmental impact statement (EIS), based on the anticipated level of impacts. In the event the BLM elects to prepare an EIS, this notice satisfies the requirement in 40 CFR 1501.7 to publish a Notice of Intent to prepare an EIS.

The BLM will utilize and coordinate the NEPA commenting process to satisfy the public involvement process for Section 106 of the National Historic Preservation Act (NHPA) (16 U.S.C. 470(f)), as provided for in 36 CFR 800.2(d)(3). Tribal consultations will be conducted in accordance with policy, and tribal concerns including impacts on Indian trust assets, if any, will be given due consideration. Federal, State, and local agencies, along with other stakeholders that may be interested or affected by the BLM's decision on this proposed plan amendment or implementation decisions, are invited to participate in the scoping process, and the whole of the public involvement process.

Preliminary planning criteria include the following:

1. The plan amendment will comply with FLPMA, NEPA, and all other applicable laws, regulations, and policies.

2. For program-specific guidance for decisions at the land use planning level, the process will follow the BLM's policies in the Land Use Planning Handbook, H-1601-1 and Manual Section 1626, Travel and Transportation Management.

3. Public participation and collaboration will be an integral part of the planning process.

4. The BLM will strive to make decisions in the plan compatible with the existing plans and policies of adjacent local, State, and Federal agencies and local American Indian tribes, as long as the decisions are consistent with the purposes, policies, and programs of Federal law and regulations applicable to public lands.

5. The plan amendment will incorporate, where applicable and appropriate, management decisions brought forward from existing planning documents.

6. The BLM will work collaboratively with cooperating agencies and all other interested groups, agencies, and individuals.

7. GIS and metadata information will meet Federal Geographic Data Committee standards, as required by Executive Order 12906. All other applicable BLM data standards will also be followed.

8. The planning process will provide for ongoing consultation with American Indian tribes and strategies for protecting recognized traditional uses, e.g., gathering of traditionally used plant materials.

9. The plan amendment will focus on developing language for the WEMO area that conforms to the goals of the Motorized Vehicle Access Element of the CDCA Plan as described in the 1982 Plan Amendment #3.

Before including your address, phone number, e-mail address, or other personal identifying information in your comment, you should be aware that your entire comment—including your personal identifying information—may be made available any time. While you can ask the BLM in your comment to withhold your personal identifying information from public release, the BLM cannot guarantee that we will be able to do so.

Thomas Pogacnik,
Deputy State Director, Natural Resources.

[FR Doc. 2011-23320 Filed 9-12-11; 8:45 am]

BILLING CODE 4310-40-P